ENVIRONMENTAL PROTECTION AGENCY

[FRL-7109-8]

Agency Information Collection Activities; Submission for OMB Review; Comment Request; Assessment of EPA Compliance Assistance Projects

AGENCY: Environmental Protection Agency (EPA).

ACTION: Notice.

SUMMARY: In compliance with the Paperwork Reduction Act (44 U.S.C. 3501 et seq.), this notice announces that the following Information Collection Request (ICR) has been forwarded to the Office of Management and Budget (OMB) for approval: Assessment of Compliance Assistance Projects, OMB Control Number 2020-0015, expiration date December 31, 2001. The ICR describes the nature of the information collection and its expected burden and cost; where appropriate, it includes the actual data collection instruction.

DATES: Comments must be submitted on or before December 31, 2001.

ADDRESSES: Send comments, referencing EPA ICR No. 1860.02 and OMB Control Number 2020-0015, to the following addresses: Susan Auby, U.S. Environmental Protection Agency, Collection Strategies Division (Mail Code 2822), 1200 Pennsylvania Avenue, NW., Washington, DC 20460-0001; and to the Office of Information and Regulatory Affairs, Office of Management and Budget (OMB), Attention: Desk Officer for EPA, 725 17th Street, NW., Washington, DC 20503.

FOR FURTHER INFORMATION CONTACT: For a copy of the ICR contact Susan Auby at EPA by phone at (202) 260-4901 or by e-mail at auby.susan@epa.gov or download off the Internet at http://www.epa..gov/icr and refer to EPA ICR No. 1860.02. For technical questions about the ICR contact Ms. Lynn Vendinello at (202) 564-7066.

SUPPLEMENTARY INFORMATION: Title: Assessment of EPA Compliance Assistance Projects, OMB Control No. 2020-0015, EPA ICR Number 1860.02, expiration date December 31, 2001.

Abstract: This information collection determines how well EPA compliance assistance tools and services meet customers needs and to assess the effectiveness of the assistance activities. This will be a voluntary collection of information to gauge customer satisfaction with the compliance assistance projects, measure any resulting changes in knowledge and/or behavior, and evaluate any environmental and human health impacts. EPA proposes to use assessment surveys to provide the agency with feedback on the compliance assistance documents, onsite visits, telephone assistance, web sites, and compliance assistance seminars and workshops delivered by headquarters and regional compliance assistance programs to the regulated community. This feedback will help EPA improve the quality and delivery of compliance assistance tools and services. This ICR will only provide anecdotal data for the purpose of informing EPA of the effectiveness of compliance assistance tools, and customer satisfaction with those tools. All assessments undertaken under this ICR will adhere to specific conditions to ensure that data is collected and used properly and efficiently. The information collection is voluntary, and will be limited to non-sensitive data concerning the quality of compliance assistance activities. An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on August 31, 2001 (66 FR 45982); no comments were received.

Burden Statement: The annual public reporting and recordkeeping burden for this collection of information is estimated to average 9 minutes per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Business or other for profit, Federal Government, or State, Local, and Tribal Government.

Estimated Number of Respondents: 25,676.

Frequency of Response: One time.

Estimated Total Annual Hour Burden: 3,956.

Estimated Total Annualized Capital, O&M Cost Burden: 0.

Send comments on the Agency's need for this information, the accuracy of the provided burden estimates, and any suggested methods for minimizing respondent burden, including through the use of automated collection techniques to the addresses listed above. Please refer to EPA ICR No. 1860.02 and OMB Control No. 2020-0015 in any correspondence.

Dated: November 20, 2001.
Oscar Morales,
Director, Collection Strategies Division.

[FR Doc. 01-29660 Filed 11-28-01; 8:45 am]

BILLING CODE 6560-50-P